NATIONAL TRANSPORTATION SAFETY BOARD

Notice of Sunshine Act Meeting

Time and Date: 9:30 a.m., Wednesday, May 31, 2006.

Place: NTSB Conference Center, 429 L'Enfant Plaza, SW., Washington, DC 20594.

Status: This one item is open to the public.

Matter to be Considered: 7794, Highway Accident Brief—Passenger Vehicle Collison with a Fallen Overhead Girder Eastbound on Interstate 70 at the Colorado State Route 470 Overpass, Golden, Colorado, May 15, 2004.

News Media Contact: Ted Lopatkiewicz, Telephone: (202) 314-6100.

Individuals requesting specific accommodations should contact Chris Bisett at (202) 314-6305 by Friday, May 26, 2006.

The public may view the meeting via a live or archived Webcast by accessing a link under “News & Events” on the NTSB home page at http://www.ntsb.gov.

FOR FURTHER INFORMATION CONTACT: Vicky D'Onofrio, (202) 314-6410.

Dated: May 19, 2006.
Vicky D'Onofrio,
Federal Register Liaison Officer.

[FR Doc. 06-4836 Filed 5-19-06; 2:41 pm]

BILLING CODE 7533-01-M